DEPARTMENT OF COMMERCE

International Trade Administration

[A-351-842, A-570-022, C-570-023, A-560-828, C-560-829]

Certain Uncoated Paper From Brazil, the People's Republic of China, and Indonesia: Affirmative Final Determinations of Circumvention of the Antidumping Duty Orders and Countervailing Duty Orders for Certain Uncoated Paper Rolls; Correction

AGENCY: Enforcement and Compliance, International Trade Administration, Department of Commerce.

SUMMARY: On December 14, 2021, the Department of Commerce (Commerce) published the Federal Register notice of the final determination in the anti-circumvention inquiries of the antidumping duty (AD) orders on certain uncoated paper from Brazil, the People's Republic of China (China), and Indonesia and the countervailing duty (CVD) orders on certain uncoated paper from China and Indonesia. This notice inadvertently did not address Commerce's intent to instruct U.S. Customs and Border Protection (CBP) to liquidate certain uncoated paper entries from China.

FOR FURTHER INFORMATION CONTACT: Rachel Greenberg, AD/CVD Operations, Office V, Enforcement and Compliance, International Trade Administration, U.S. Department of Commerce, 1401 Constitution Avenue NW, Washington, DC 20230; telephone: (202) 482-1110.

SUPPLEMENTARY INFORMATION:

Correction

In the Federal Register of December 14, 2021, in FR Doc 2021-26996, on page 71027, in the section titled “Liquidation of Entries,” between the second and third paragraph, include the following:

For all entries of merchandise subject to the AD order on uncoated paper from China, entered or withdrawn from warehouse for consumption on or after October 18, 2019, through February 28, 2021, Commerce intends to instruct CBP to liquidate those entries at the applicable AD rates for those entries.¹ For all entries of merchandise subject to the CVD order on uncoated paper from China, entered or withdrawn from warehouse for consumption on or after October 18, 2019, through December 31, 2020, Commerce intends to instruct CBP to liquidate those entries at the applicable CVD rates for those entries.²

¹ Commerce is not conducting an administrative review of the AD order on uncoated paper from China for the period ending on February 28, 2021. Therefore, Commerce will instruct CBP to liquidate all entries through the end of the last administrative review period.

² Commerce is not conducting an administrative review of the CVD order on uncoated paper from China for the period ending on December 31, 2020. Therefore, Commerce will instruct CBP to liquidate all entries through the end of the last administrative review period.

Background

On December 14, 2021, Commerce published in the Federal Register the final determinations in the circumvention inquiries of the AD orders on certain uncoated paper from Brazil, China, and Indonesia and the CVD orders on certain uncoated paper from China and Indonesia.³ In the Final Determination, we inadvertently did not address Commerce's intent to instruct CBP to liquidate certain entries of uncoated paper from China. This notice serves to correct the “Liquidation of Entries” section of the Final Determination. No other changes have been made to the Final Determination.

³ See Certain Uncoated Paper from Brazil, the People's Republic of China, and Indonesia: Affirmative Final Determinations of Circumvention of the Antidumping Duty Orders and Countervailing Duty Orders for Certain Uncoated Paper Rolls, 86 FR 71025 (December 14, 2021) (Final Determination).

Notification to Interested Parties

This determination is issued and published in accordance with section 781(a) of the Tariff Act of 1930, as amended, and 19 CFR 351.225(g).

Dated: January 13, 2022.
Lisa W. Wang,
Assistant Secretary for Enforcement and Compliance.

[FR Doc. 2022-00946 Filed 1-18-22; 8:45 am]

BILLING CODE 3510-DS-P